DEPARTMENT OF THE INTERIOR

National Park Service

Realty Action Notice

AGENCY: National Park Service, Interior.

ACTION: Notice of Realty Action—Proposed exchange of interests in federally-owned land for privately-owned land in Camden County, State of Georgia, Cumberland Island National Seashore.

SUMMARY: The following described federally-owned land acquired by the National Park Service has been determined to be suitable for disposal by exchange. The selected Federal land is within the boundary of Cumberland Island National Seashore. The authority for this exchange is section 2 of Public Law 92-536 (86 Stat. 1066), which authorized the Secretary of the Interior to acquire lands, waters, and interests therein on the Cumberland Island National Seashore by purchase, donation, or exchange, and section 5 of the Land and Water Conservation Fund Act Amendments in Pub. L. 90-401 (80 Stat. 356), approved July 15, 1968. This notice is published pursuant to Section 11.5.1 of the National Park Service Land Acquisition Procedures Manual.

DATES: Comments on this proposed land exchange will be accepted until May 27, 2004.

ADDRESS: Detailed information concerning this exchange including the precise legal descriptions, Land Protection Plan, and environmental assessment are available at Cumberland Island National Seashore, P.O. Box 806, St. Marys, Georgia 31558. Comments may also be mailed to this address.

FOR FURTHER INFORMATION CONTACT: Superintendent, Cumberland Island National Seashore, P.O. Box 806, St. Marys, Georgia 31558, Telephone: 912-882-4336, E-mail: Cuis_Superintendent@nps.gov.

SUPPLEMENTARY INFORMATION: Fee ownership of the following federally-owned property is to be exchanged: Tract Number 02-213 is a 32.14-acre upland tract in the southern portion of Cumberland Island National Seashore. This tract includes a life estate (15.1 acres, with dwelling) and is located immediately to the north of, and contiguous to, a private tract of 206.13 acres owned by Greyfield Land Corp. In exchange for the foregoing lands, the United States of America will acquire a 52.2-acre tract (NPS Tract No. 02-212) containing 21 acres of upland. This tract is owned by Greyfield Ltd. and lies within an area designated by Congress as potential wilderness.

The terms of the exchange are set forth in a contract by and among Greyfield Ltd., The Nature Conservancy, and the National Park Service. The parties agreed to the exchange in order to resolve a dispute that arose during the sale of the former Greyfield North tract to The Nature Conservancy for eventual conveyance to the National Park Service. As a result of the exchange agreement, the parties completed the final phases of the Greyfield North transaction in 1999, with the understanding that the land exchange was to be completed by July 1, 2004.

An archeological survey completed in 2003 revealed that the exchange tract contains potentially significant archeological resources that may be eligible for listing in the National Register of Historic Places. The National Park Service has determined that the proposed exchange would have an adverse effect on these resources. Accordingly, the National Park Service proposes to mitigate this adverse effect by conducting extensive data recovery from the site, with curation, prior to the exchange.

The value of the properties to be exchanged shall be determined by a current fair market appraisal and if they are not appropriately equal, the values shall be equalized by payment of cash as circumstances require.

Interested parties may submit written comments to the address listed in the ADDRESSES paragraph. Adverse comments will be evaluated and this action may be modified or vacated accordingly. In the absence of any action to modify or vacate, this realty action will become the final determination of the Department of the Interior.

Dated: January 5, 2004.
Patricia A. Hooks,
Acting Regional Director, Southeast Region.

[FR Doc. 04-8167 Filed 4-9-04; 8:45 am]

BILLING CODE 4310-L6-P